DEPARTMENT OF THE INTERIOR

National Park Service

Revised Draft Backcountry Management Plan, General Management Plan Amendment and Environmental Impact Statement, Denali National Park and Preserve, AK

AGENCY: National Park Service, Interior.

ACTION: Notice of Availability of the Revised Draft Backcountry Management Plan, General Management Plan Amendment and Environmental Impact Statement.

SUMMARY: The National Park Service (NPS) announces the availability of the Revised Draft Backcountry Management Plan, General Management Plan Amendment and Environmental Impact Statement (EIS) for Denali National Park and Preserve. The document describes and analyzes the environmental impacts of a preferred alternative and three action alternatives for managing the park and preserve's backcountry. A no action alternative also is evaluated. This notice announces the 60-day public comment period and solicits comments on the revised draft plan and EIS.

DATES: Written comments on the revised draft plan and EIS must be received no later than June 27, 2005.

ADDRESSES: Comments on the revised draft plan and EIS should be submitted to the Superintendent, Denali National Park and Preserve, Post Office Box 9, Denali Park, Alaska 99755. Submit electronic comments to dena_public_comment@nps.gov. The revised draft EIS may be viewed online at http://www.nps.gov/dena through the “in Depth” link on our homepage under “Planning and Management.” Hard copies or CDs of the Revised Draft Backcountry Management Plan and General Management Plan Amendment and EIS are available by request from the aforementioned address.

FOR FURTHER INFORMATION CONTACT: Mike Tranel, Chief of Planning, Denali National Park and Preserve. Telephone: (907) 644-3611.

SUPPLEMENTARY INFORMATION: The National Park Service (NPS) is preparing a revised draft backcountry management plan and accompanying EIS that amends the 1986 General Management Plan for Denali National Park and Preserve. The purpose of the plan and EIS is to formulate a comprehensive plan for the backcountry, including designated wilderness, of Denali National Park and Preserve that will provide management direction over the next 15-20 years. The backcountry of Denali National Park and Preserve is defined to include the entire park except for those areas designated specifically for development in the entrance area and along the road corridor. Many issues to be addressed in the backcountry management plan, however, would affect the entire park, including developed areas. The NPS has initiated this management plan and EIS to address the rapidly growing level and diversity of uses, resource management needs, and the anticipated demand for future uses not foreseen or addressed in the 1986 General Management Plan.

The NPS developed a range of alternatives based on planning objectives, park resources, and public input. Each alternative represents a distinct vision for the park's backcountry. These alternatives describe actions related to management area designation, recreational activities, and administrative activities. Four alternatives in addition to a no-action alternative were developed.

The draft backcountry management plan was distributed for public review in February 2003, with the public comment period ending on May 30, 2003. The National Park Service received 9,370 comments on the draft plan. After careful consideration, the National Park Service concluded that alternatives presented in the draft would require significant modification to respond to the range of interests expressed in public comment. To give the public an opportunity to respond to and contribute to further refinement of these modifications the National Park Service is publishing a Revised Draft. This draft contains four new alternatives and an accompanying Environmental Impact Statement. A Record of Decision is expected in the fall of 2005.

Alternative 1 (No Action): Current and projected conditions under this alternative provide a baseline for evaluating the changes and impacts of the other action alternatives. The NPS would continue the present management direction, guided by the 1986 General Management Plan, the 1997 Entrance Area and Road Corridor Development Concept Plan, the 1997 South Side Denali Development Concept Plan, the 1997 Strategic Plan, and backcountry management plans from 1976 and 1982. Recreational use and access patterns would continue to develop, and NPS would respond as necessary on a case-by-case basis. No new services or facilities would be developed to meet increased levels of use in the backcountry, except for those identified in the Entrance Area or South Side plans. This alternative represents “no action” for this plan. For all activities, the NPS would respond to changing use patterns as necessary to protect park resources, visitor safety, and visitor experience.

Alternative 2: This alternative would distinguish a unique Denali experience based on dispersed use in a wilderness landscape with few sights or sounds of people or mechanized civilization. There would be few services, facilities, or signs of management presence. This alternative would most clearly distinguish the backcountry experience in Denali from the surrounding lands, providing a place primarily for visitors who are very self-reliant, and would include many opportunities for extended expeditions in very remote locations. Backcountry users seeking other experiences would find those opportunities on neighboring lands.

Alternative 3: This alternative would provide opportunities for a variety of wilderness recreational activities by establishing areas to serve those visitors who want to experience the wilderness resource values of the Denali backcountry but require services, assistance, or have a limited amount of time. The areas would be the minimum necessary to provide these experiences based on present demand and would be focused along the park road in the Old Park and Kantishna and at the existing high activity areas at the Ruth Glacier and the Kahiltna Base Camp. The majority of the backcountry would be managed for dispersed, self-reliant travel and would include opportunities for extended expeditions in very remote locations.

Alternative 4 (NPS Preferred Alternative): This alternative would also provide opportunities for a variety of wilderness recreational activities and experiences by establishing areas to serve those visitors who want to experience the wilderness resource values of the Denali backcountry but require services, assistance, or have a limited amount of time. However, the areas would be of sufficient size to accommodate anticipated growth in the next 20 years and would be focused along the park road in the Old Park and Kantishna; at the Ruth, Tokositna, and Kahiltna Glaciers; and in the Dunkle Hills/Broad Pass area. The remainder of the backcountry would be managed for dispersed, self-reliant travel and would include opportunities for extended expeditions in very remote locations.

Alternative 5: This alternative would create two distinct geographic areas that provide different kinds of visitor experiences in the Denali backcountry. The Old Park and the Denali additions north of the Alaska Range would be primarily managed for dispersed, self-reliant travel although no areas would be managed specifically to preserve opportunities for extended expeditions in remote locations. Areas along the park road and in Kantishna that presently receive a relatively high volume of use and large parts of the additions south of the Alaska Range would be managed for a greater intensity and variety of appropriate recreational activities and would have more visible management presence and opportunities for more services and facilities.

Informational and Public Meetings

Informational meetings and public hearings will be scheduled in Alaska at the following locations: Anchorage, Fairbanks, Healy, Susitna Valley, and Cantwell. The specific dates and times of the meetings and public hearings will be announced in local media.

It is the practice of the National Park Service to make comments, including names and addresses of respondents, available for public review. An individual respondent may request that we withhold his or her address from the record, which we will honor to the extent allowable by law. If you wish to have NPS withhold your name and/or address, you must state this prominently at the beginning of your comments. NPS will make all submissions from organizations or businesses, and from individuals identifying themselves as representatives or officials of organizations or businesses, available for public inspection in their entirety.

Dated: April 20, 2005.
Anne. D. Castellina,
Acting Regional Director, Alaska.

[FR Doc. 05-8308 Filed 4-25-05; 8:45 am]

BILLING CODE 4310-HT-P